DEPARTMENT OF COMMERCE

National Oceanic and Atmospheric Administration

[I.D.122200A]

Draft Environmental Impact Statement (DEIS) for the Habitat Conservation Plans proposed for Public Utility District No. 1 of Douglas County, Washington, and the Public Utility District No. 1 of Chelan County, Washington

AGENCY: National Marine Fisheries Service (NMFS), National Oceanic and Atmospheric Administration (NOAA), Commerce.

ACTION: Notice of document availability; request for comments.

SUMMARY: This notice advises the public that the Public Utility District (PUD) No. 1 of Douglas County, Washington, and the PUD No. 1 of Chelan County, Washington, (applicants) have submitted individual applications to the National Marine Fisheries Service (NMFS) for incidental take permits pursuant to the Endangered Species Act (ESA). The permit applications are related to the effects on listed anadromous fish of the PUDs’ ongoing and future hydroelectric project operations on the mainstem Columbia River. Each PUD has included with its application a proposed (draft) Anadromous Fish Agreement and Habitat Conservation Plan (HCP) designed to minimize and mitigate any such incidental take of endangered or threatened species, as required by the ESA. The proposed HCPs are also intended to serve as proposed agreements to satisfy the PUDs’ obligations under the Federal Power Act and related Federal and state laws governing project effects on anadromous fish and their habitat. To consider the effects of these proposed HCPs, the NMFS has prepared a DEIS that is now available for review and comment by interested parties.

DATES: Written comments on the DEIS must be received on or before March 29, 2001.

ADDRESSES: For copies of the DEIS, or to provide written comments, contact: National Marine Fisheries Service, Northwest Region, Hydro Program, 525 NE Oregon Street, Suite 420, Portland, OR 97232-2737 (503-736-4734). Comments may also be sent via fax to (503) 231-2318. Comment will not be accepted if submitted via email or the internet.

The DEIS and the proposed HCPs are available for review via the world wide web at www.nwr.noaa.gov/1hydrop/hydroweb/ferc.htm (under the “Related Documents” heading).

FOR FURTHER INFORMATION CONTACT: Mr. Bob Dach, Fishery Biologist, Hydro Program, Portland, OR (503-736-4734).

SUPPLEMENTARY INFORMATION: Under section 9 of the ESA and its implementing regulations, “taking” of an endangered species is prohibited. However, in limited circumstance NMFS may issue a permit to take endangered species if such taking is incidental to, and not the purpose of, an otherwise lawful activity. Regulations governing permits for endangered species can be found in 50 CFR part 222.

Anticipating that NMFS’ decision to issue an incidental take permit, as contemplated by the proposed HCPs, would be a major federal action under the National Environmental Policy Act (NEPA), the PUDs requested that NMFS conduct a coordinated and consolidated environmental review process to facilitate the resolution of remaining issues under the proposed agreements while complying with applicable Federal and state legal requirements.

NMFS considers each of these permit requests to be a major Federal action significantly affecting the quality of the human environment. Therefore, in accordance with the requirements of NEPA, NMFS has prepared a DEIS. This notice, provided pursuant to NEPA regulations (40 CFR 1506.6), advises the public that the DEIS and proposed HCPs are now available for review and comment. After considering any comments received pursuant to this notice, NMFS will prepare a final EIS and make a final determination regarding the sufficiency of the applications in accordance with the requirements of 50 CFR 222.307. If deemed sufficient, NMFS thereafter will publish a notice that the applications are available for public comment, as required by 50 CFR part 222, prior to reaching a decision on whether to issue or deny issuance of the permits.

The following species and evolutionarily significant units are included in these Plans: Endangered Upper Columbia River (UCR) spring-run chinook salmon (Oncorhynchus tshawytscha) and steelhead (O. mykiss), unlisted UCR summer/fall chinook salmon (O. tshawytscha), Okanogan River and Lake Wenatchee sockeye salmon (O. nerka), and UCR coho salmon (O. kisutch). The Plan also proposes specific procedures, protection and enhancement measures to mitigate for the effects that the Wells, Rocky Reach and Rock Island hydroelectric projects will have on these species, for a period of 50 years. The Wells Dam is owned and operated by the PUD No. 1 of Douglas County and the Rocky Reach and Rock Island dams are owned and operated by the PUD No. 1 of Chelan County. All three of these hydroelectric projects are located on the Mid-Columbia River in central Washington state.

The applicants have provided proposed HCPs with the intent of obtaining incidental take permits pursuant to ESA section 10(a)(1)(B). The proposed HCPs were developed over several years of negotiations with Federal and state resource agencies, Native American Tribes, and with American Rivers (a non-governmental environmental organization). While these negotiations produced proposed agreements on many important issues, it should be noted that not all parties are in support of the HCPs as currently proposed. NMFS has determined that we are unable to execute the agreements until a public review, the requisite environmental reviews, and Federal/Tribal consultations have been completed.

The proposed HCPs include a standard of “no net impact” which consists of a 95-percent juvenile dam passage survival standard and a 91-percent total project survival standard for each of the Plan species. The total project survival standard includes both the juvenile and adult life stages of the Plan species. The unavoidable project mortality (i.e., the remaining 9-percent of the Plan species still impacted by project operations) will be mitigated through a habitat conservation fund and a supplementation program. The habitat fund will address 2-percent of the unavoidable loss and the supplementation program will address the remaining 7-percent. As a result of this commitment, the applicants are requesting incidental take permits with a term of 50 years, settlement under the Federal Power Act when each project is relicensed, and a “no surprises” guarantee from the Federal government.

Following the DEIS public review and comment period, a preferred alternative will be selected and evaluated for its affect on ESA-listed species. At that time, NMFS will determine the sufficiency of the section 10(a)(1)(B) permit applications and will publish a notice of availability in the Federal Register for review of the completed applications and the Final Environmental Impact Statement (FEIS). NMFS will make its decision regarding issuance of the permit following completion of the FEIS and permit application review period.

The DEIS considers the environmental consequences of three alternatives: (1) no action, (2) ESA coverage pursuant to section 7(a)(2), and (3) ESA coverage pursuant to section 10(a)(1)(B). Alternative 1, the no action alternative, would result in continuation of the status quo. Alternative 2 would require the Federal Energy Regulatory Commission to implement all measures necessary to aid in the recovery of listed species, up to full mitigation of the project effects, although only limited measures would be applied to currently unlisted species. Alternative 3 would utilize the “no net impact” standard, as described previously, and implementation processes set forth in the proposed HCPs to both protect currently listed species and to further protect and enhance the remaining Plan species in an attempt to prevent future listings. The results of implementing each of these alternatives on the human environment have been assessed in the DEIS.

NMFS will use the comments received to modify the DEIS as appropriate and to aid in the selection of the preferred alternative. The applicants will then have an opportunity to modify their HCPs, if necessary, to address information provided during the comment period. Upon completion of a biological opinion on the preferred alternative, NMFS will render its decision.

Dated: December 22, 2000.
Wanda L. Cain,
Chief, Endangered Species Division, Office of Protected Resources, National Marine Fisheries Service.

[FR Doc. 00-33227 Filed 12-28-00; 8:45 am]

BILLING CODE: 3510-22-S